ENVIRONMENTAL PROTECTION AGENCY

[EPA-HQ-RCRA-2013-0110; FRL-9940-16-OEI]

Information Collection Request Submitted to OMB for Review and Approval; Comment Request; Categorical Non-Waste Determination for Selected Non Hazardous Secondary Materials (NHSM): Construction and Demolition Wood, Paper Recycling Process Residuals, and Creosote-Treated Railroad Ties (Additions to List of Section 241.4 Categorical Non-Waste Fuels)

AGENCY: Environmental Protection Agency (EPA).

ACTION: Notice.

SUMMARY: The Environmental Protection Agency has submitted an information collection request (ICR), “Categorical Non-Waste Determination for Selected Non Hazardous Secondary Materials (NHSM): Construction and Demolition Wood, Paper Recycling Process Residuals, and Creosote-Treated Railroad Ties (Additions to List of Section 241.4 Categorical Non-Waste Fuels)” (EPA ICR No. 2493.01, OMB Control No. 2050-XXXX) to the Office of Management and Budget (OMB) for review and approval in accordance with the Paperwork Reduction Act (44 U.S.C. 3501 et seq.). This is a request for approval of a new collection. Public comments were previously requested via the Federal Register (79 FR 21006) on April 14, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before January 15, 2016.

ADDRESSES: Submit your comments, referencing Docket ID Number EPA-HQ-RCRA-2013-0110, to (1) EPA online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jesse Miller, Office of Resource Conservation and Recovery, Materials Recovery and Waste Management Division, MC 5302P, Environmental Protection Agency, 1200 Pennsylvania Ave. NW., Washington, DC 20460; telephone number: (703) 308-1180; fax number: (703) 308-0522; email address: miller.jesse@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA published the Non-Hazardous Secondary Materials (NHSM) Rule on March 21, 2011. Amendments to this rule were published in the Federal Register on February 7, 2013. These amendments provided clarification on certain issues on which EPA received new information, as well as specific targeted revisions. In addition, these amendments listed several NHSMs as categorical non-wastes when used as fuels. The Agency also indicated that we would consider adding additional materials to the categorical listings.

The rule associated with this ICR Supporting Statement proposes to add three additional materials to the list of categorical non-waste fuels: (1) Construction and demolition (C&D) wood processed from construction and demolition debris according to best management practices; (2) paper recycling residuals (PRRs), including old corrugated cardboard (OCC) rejects, generated from the recycling of recovered paper and paperboard products and burned on-site by paper recycling mills whose boilers are designed to burn solid fuel, and (3) creosote-treated railroad ties that are processed and combusted in units designed to burn both biomass and fuel oil. This ICR is a description of the indirect information collection requirements associated with the proposed rule. There are two burden categories associated with this action: reading and understanding the rule, and certification statements for affected facilities.

Form Numbers: None.

Respondents/affected entities: Generators, users, and potential users of the new materials proposed to be added to the list of categorical non-waste fuels.

Respondent's obligation to respond: Voluntary, required to obtain non-waste determinations for non-hazardous secondary materials (40 CFR part 241).

Estimated number of respondents: 605 (total).

Frequency of response: Once.

Total estimated burden: 885 hours (per year). Burden is defined at 5 CFR 1320.03(b).

Total estimated cost: $64,739 (per year), includes $0 annualized capital or operation & maintenance costs.

Changes in the Estimates: This is a new collection.

Courtney Kerwin,
Acting Director, Collection Strategies Division.

[FR Doc. 2015-31541 Filed 12-15-15; 8:45 am]

BILLING CODE 6560-50-P